DEPARTMENT OF TRANSPORTATION

Coast Guard

[USCG-2001-9526]

Chemical Transportation Advisory Committee

AGENCY: Coast Guard, DOT.

ACTION: Notice of meeting.

SUMMARY: The Hazardous Substances Response Standards Subcommittee of the Chemical Transportation Advisory Committee (CTAC) will meet to review the draft document for national marine emergency chemical response guidance. This document addresses safety protocols for personnel, training requirements, and equipment specifics. It also categorizes response teams based on their ability to bring equipment to the scene of a hazardous substance incident. As a result of this meeting, and subsequent meetings as deemed necessary by the Chairman, this Subcommittee will develop recommendations for a national standard that will provide direction to the chemical response industry. This meeting will be open to the public.

DATES: The Subcommittee will meet on Thursday, May 17, 2001, from 8:30 a.m. to 5 p.m. and on Friday, May 18, 2001, from 8:30 a.m. to 12 p.m. This meeting may close early if all business is finished. Written material and requests to make oral presentations should reach the Coast Guard on or before May 15, 2001. Requests to have a copy of your material distributed to each member of the Subcommittee should reach the Coast Guard on or before May 15, 2001.

ADDRESSES: The Subcommittee will meet at the Marathon Ashland Headquarters, 5500 San Felipe St., Houston, Texas. Send written material and requests to make oral presentations to Lieutenant Susan Klein, Coast Guard Technical Representative for the Subcommittee, Commandant (G-MOR-2), U.S. Coast Guard Headquarters, 2100 Second Street SW, Washington, DC 20593-0001.

FOR FURTHER INFORMATION CONTACT: Lieutenant Susan Klein, Coast Guard Technical Representative for the Subcommittee, telephone 202-267-0417, fax 202-267-4065.

SUPPLEMENTARY INFORMATION: Notice of this meeting is given under the Federal Advisory Committee Act, 5 U.S.C. App. 2.

Agenda of Meeting

The agenda of the CTAC Subcommittee on Hazardous Substance Response Standards includes the following:

(1) Introduction of Subcommittee members and attendees.

(2) Brief overview of Subcommittee tasking and desired outcome.

(3) Review of current status of draft document.

(4) Open discussion of further document improvements.

(5) Discussion of final product format and plan for future work.

Procedural

The meeting is open to the public. Please note that the meeting may close early if all business is finished. All attendees at the meeting are encouraged to fully review the Subcommittee's task statement prior to the meeting. Copies of the Subcommittee's task statement can be obtained from Lieutenant Susan Klein, telephone 202-267-0417, fax 202-267-4065. It is also available from the CTAC Internet Website at: www.uscg.mil/hq/g-m/advisory/ctac. At the discretion of the Subcommittee Chair, members of the public may make oral presentations during the meeting. If you would like to make an oral presentation at the meeting, please notify the Coast Guard Technical Representative to the Subcommittee and submit written material on or before May 15, 2001. If you would like a copy of your material distributed to each member of the Subcommittee in advance of a meeting, please submit 25 copies to the Coast Guard Technical Representative to the Subcommittee no later than May 15, 2001.

Information on Services for Individuals with Disabilities

For information on facilities or services for individuals with disabilities, or to request special assistance at the meeting, contact the Coast Guard Technical Representative to the Subcommittee as soon as possible.

Dated: April 25, 2001.
Howard L. Hime,
Acting Director of Standards, Marine Safety and Environmental Protection.

[FR Doc. 01-10836 Filed 4-30-01; 8:45 am]

BILLING CODE 4910-15-P